ENVIRONMENTAL PROTECTION AGENCY

40 CFR Part 60

[FRL-6728-9]

New Stationary Sources; Supplemental Delegation of Authority to the States of Alabama, Florida, Georgia and Tennessee and to Nashville-Davidson County, TN

AGENCY: Environmental Protection Agency (EPA).

ACTION: Correction to delegation of authority.

SUMMARY: This document corrects an error in the supplemental delegation of authority Federal Register notices published on September 21, 1998 and March 25, 1999 for the States of Alabama, Florida, Georgia and Tennessee and to Nashville-Davidson County, Tennessee. The previous Federal Register notices mistakenly held back the authority for states to approve reference methods that contain minor changes in test methodology.

EFFECTIVE DATE: The effective date is July 28, 2000.

FOR FURTHER INFORMATION CONTACT: Katy Forney at 404-562-9130

SUPPLEMENTARY INFORMATION: This document corrects an error in the following, previously published, Federal Register notices given supplemental delegation of authority to the above mentioned states and local agencies: State of Tennessee & Nashville-Davidson Co. Tennessee—63 FR 50162 (September 21, 1998) State of Florida—63 FR 50163 (September 21, 1998) States of Alabama & Georgia—64 FR 14393 (March 25, 1999)

The SUPPLEMENTARY INFORMATION section of the Federal Register notices listed above contains a list of sections that will not be delegated for that subpart.

The list currently contains the following citation:

1. Subpart A—§ 60.8(b)(1) thru (5), § 60.11(e)(7) and (8), § 60.13(g), (i), and (j)(2)

The list should be amended to contain the following citation:

1. Subpart A—§ 60.8(b)(2) and (3), § 60.11(e)(7) and (8), § 60.13(g), (i), and (j)(2)

Administrative Requirements

The Office of Management and Budget (OMB) has exempted this regulatory action from Executive Order 12866, entitled “Regulatory Planning and Review.”

Because this corrective notice is not subject to notice-and-comment requirements under the Administrative Procedure Act or any other statute, it is not subject to the provisions of the Regulatory Flexibility Act (5 U.S.C. 601 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of July 28, 2000. EPA will submit a report containing this rule and other required information to the U.S. Senate, the U.S. House of Representatives, and the Comptroller General of the United States prior to publication of the rule in the Federal Register. This action is not a “major rule” as defined by 5 U.S.C. 804(2).

Authority: This notice is issued under the authority of sections 101, 110, 111, 112 and 301 of the Clean Air Act, as Amended (42 U.S.C. 7401, 7410, 7411, 7412 and 7601).

Dated: June 19, 2000.
A. Stanley Meiburg,
Acting Regional Administrator, Region 4.

[FR Doc. 00-19113 Filed 7-27-00; 8:45 am]

BILLING CODE 6560-50-U